DEPARTMENT OF HOMELAND SECURITY

Coast Guard

33 CFR Part 117

[Docket No. USCG-2016-0723]

RIN 1625-AA09

Drawbridge Operation Regulation; Atlantic Intracoastal Waterway, St. Augustine, FL

AGENCY: Coast Guard, DHS.

ACTION: Advance notice of proposed rulemaking; withdrawal.

SUMMARY: The Coast Guard is withdrawing its advance notice of proposed rulemaking (ANPRM) concerning the Bridge of Lions (SR A1A) across the Atlantic Intracoastal Waterway, mile 777.9, at St. Augustine, Florida. The City of St. Augustine proposed to modify the bridge operating schedule to alleviate vehicle traffic congestion. However, the Coast Guard has determined it would be inappropriate to move forward with a notice of proposed rulemaking. The Coast Guard believes placing additional restrictions to the bridge would add additional hazards to mariners and effect the safe navigation of vessels awaiting bridge openings.

DATES: The notice of proposed rulemaking published on March 15, 2017 (82 FR 13785), is withdrawn on October 26, 2017.

ADDRESSES: The docket for this document, USCG-2016-0723 is available at http://www.regulations.gov. Type the docket number in the “SEARCH” box and click “SEARCH.” Click on Open Docket Folder on the line associated with this document.

FOR FURTHER INFORMATION CONTACT: If you have questions about this document, call or email LT Allan Storm, Sector Jacksonville, Waterways Management Division, U.S. Coast Guard; telephone 904-714-7616, email Allan.H.Storm@uscg.mil.

SUPPLEMENTARY INFORMATION:

Background Information and Regulatory History

On March 15, 2017, the Coast Guard published an ANPRM entitled “Drawbridge Operation Regulation; Atlantic Intracoastal Waterway, St. Augustine, FL” in the Federal Register (82 FR 13785). The advance notice of proposed rulemaking sought comments and information concerning a request from the City of St. Augustine to change the operating schedule for the Bridge of Lions across the Atlantic Intracoastal Waterway, St. Augustine, Florida amending the twice an hour operating schedule to a 7 a.m. to 9 p.m. period. The City of St. Augustine was concerned that vehicle traffic was becoming exponentially worse with each passing season and that the current operating schedule was contributing to vehicle traffic backups.

Withdrawal

The Coast Guard received 386 comments, of those, 62 comments were duplicate entries, 204 comments were in favor for the requested change and 120 were against the requested change. The comments in favor of the change generally felt the additional restrictions to the bridge would help alleviate vehicular traffic on or around the bridge and the surrounding area. For the comments that opposed the change, by and large, the main concern was safety of mariners due to strong tidal currents and the high level of vessel activities occurring in the waters near the bridge. Strong currents, the close proximity of mooring fields and marinas would hamper the ability to “keep on station” while waiting for a bridge opening. Also, sailing vessels waiting for bridge opening would be required to be moving constantly all the while avoiding other waiting vessel traffic. The requested change to the operating schedule would extend the twice an hour draw opening schedule by an additional three hours into the evening. Concern was expressed by having to wait for an opening in darkness, stating this would cause additional hazards due to vessels already underway, traffic lights against the city and vehicular lights adjacent to the waterway. The Coast Guard acknowledges all of the above safety concerns, and for that reason, we find that any benefits of the possible additional restrictions to the Bridge of Lions do not outweigh the additional hazards to vessels and mariners transiting the area around the bridge. The current regulation as written in 33 CFR 117.261(d) will remain in effect.

Dated: October 5, 2017.
Peter J. Brown,
Rear Admiral, U.S. Coast Guard, Commander, Seventh Coast Guard District.

[FR Doc. 2017-23321 Filed 10-25-17; 8:45 am]

BILLING CODE 9110-04-P